DEPARTMENT OF THE INTERIOR

National Park Service

Notice of Inventory Completion for Native American Human Remains and Associated Funerary Objects in the Control of the Georgia Department of Natural Resources, Atlanta, GA, and in the Possession of the Antonio J. Waring Archaeological Laboratory, State University of West Georgia, Carrollton, GA

AGENCY: National Park Service, Interior.

ACTION: Notice.

Notice is hereby given in accordance with provisions of the Native American Graves Protection and Repatriation Act (NAGPRA), 43 CFR 10.9, of the completion of an inventory of human remains and associated funerary objects in the control of the Georgia Department of Natural Resources, Atlanta, GA, and in the possession of the Antonio J. Waring Archaeological Laboratory, State University of West Georgia, Carrollton, GA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by Georgia Department of Natural Resources and Antonio J. Waring Archaeological Laboratory, State University of West Georgia professional staff in consultation with representatives of the Cherokee Nation, Oklahoma, Eastern Band of Cherokee Indians of North Carolina, and United Keetoowah Band of Cherokee Indians of Oklahoma.

In 1954, human remains representing a minimum of one individual were removed from New Echota (9GO42), Gordon County, GA, by Georgia Historical Commission staff. In 1972, the Georgia General Assembly dissolved the Commission and assigned its properties, including human remains from New Echota, to the newly created Georgia Department of Natural Resources. No known individual was identified. No associated funerary objects are present.

The excavations were conducted by the Georgia Historical Commission to prepare a reconstruction of the town of New Echota, which had been the capital of the Cherokee Nation from 1825 to 1836. The human remains were recovered from a residence within the town limits. The remains have been identified as Cherokee because of their association with the historically-documented Cherokee capital.

Based on the above-mentioned information, officials of the Georgia Department of Natural Resources have determined that, pursuant to 43 CFR 10.2 (d)(1), the human remains listed above represent the physical remains of one individual of Native American ancestry. Officials of the Georgia Department of Natural Resources also have determined that, pursuant to 43 CFR 10.2 (e), there is a relationship of shared group identity that can be reasonably traced between these Native American human remains and the Cherokee Nation, Oklahoma, Eastern Band of Cherokee Indians of North Carolina, and United Keetoowah Band of Cherokee Indians of Oklahoma.

This notice has been sent to officials of the Cherokee Nation, Oklahoma, Eastern Band of Cherokee Indians of North Carolina, and United Keetoowah Band of Cherokee Indians of Oklahoma. Representatives of any other Indian tribe that believes itself to be culturally affiliated with these human remains should contact David Crass, NAGPRA Coordinator, Georgia State Parks and Historic Sites, Suite 1352, 205 Butler Street SE, Atlanta, GA 30334, telephone (404) 656-9344, before August 8, 2002. Repatriation of the human remains to the Cherokee Nation, Oklahoma, Eastern Band of Cherokee Indians of North Carolina, and United Keetoowah Band of Cherokee Indians of Oklahoma may begin after that date if no additional claimants come forward.

Dated: April 9, 2002.
Robert Stearns,
Manager, National NAGPRA Program.

[FR Doc. 02-17088 Filed 7-8-02; 8:45 am]

BILLING CODE 4310-70-S